DEPARTMENT OF AGRICULTURE

Food and Nutrition Service

Agency Information Collection Activities: Proposed Collection; Comment Request—Evaluation of the 14 State Summer Food Service Program Pilot Project

AGENCY: Food and Nutrition Service, USDA.

ACTION: Notice and request for comments.

SUMMARY: In accordance with the Paperwork Reduction Act of 1995, this notice announces the Food and Nutrition Service's intention to request Office of Management and Budget approval of the data collection instruments for the Evaluation of the 14 State Summer Food Service Program Pilot Project.

DATES: Written comments on this notice must be received by March 4, 2002 to be assured of consideration.

ADDRESSES: Comments may be sent to Jay Hirschman, Director, Special Nutrition Staff, Office of Analysis, Nutrition, and Evaluation, Food and Nutrition Service, U.S. Department of Agriculture, 3101 Park Center Drive, Room 1014, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate, automated, electronic, mechanical, or other technological collection techniques or other forms of information technology.

All responses to this notice will be summarized and included in the request for Office of Management and Budget (OMB) approval of the information collection. All comments will also become a matter of public record.

FOR FURTHER INFORMATION CONTACT: Requests for additional information or copies of the proposed information collection forms should be directed to Jay Hirschman, (703) 305-2117.

SUPPLEMENTARY INFORMATION: Title: Evaluation of the 14 State Summer Food Service Program Pilot Project.

OMB Number: Not yet assigned.

Expiration Date: N/A.

Type of Request: New collection of information.

Abstract: Subsection 18 (f) of the Richard B. Russell National School Lunch Act (NSLA) (42 U.S.C. 1769 (f)), added by section 1(a)(4) of the Consolidated Appropriations Act, 2001 (Pub. L. 106-554, December 21, 2000), authorized the Secretary of Agriculture, through the Administrator of the Food and Nutrition Service (FNS), to conduct a pilot in each eligible State to increase the number of children participating in the Summer Food Service Program (SFSP) in that State. Definition of “eligible State” was provided in the authorizing legislation. Fourteen States, specifically Alaska, Arkansas, Idaho, Indiana, Iowa, Kansas, Kentucky, Nebraska, New Hampshire, North Dakota, Oklahoma, Puerto Rico, Texas and Wyoming, met the eligibility criteria and are participating in the pilot, which began in fiscal year (FY) 2001 and will continue through FY 2003. For SFSP purposes, Puerto Rico is defined as a “State” in section 13(a)(1) of the NSLA, 42 U.S.C. 1761(a)(1).

The authorizing legislation also requires FNS to conduct an evaluation of the pilot project to describe (a) any effect on participation by children and service institutions in the SFSP in the pilot States; (b) any effect of the pilot on the quality of meals and supplements served in the pilot States; and (c) any effect of the pilot on program integrity. OMB approval will be requested for the data collection instruments to be used for evaluating the impact of the 14 State SFSP Pilot Project on the three areas specified in the law.

Respondents: Respondents include: (a) State government SFSP staff; (b) continuing sponsors who were sponsoring SFSP before the pilot started; (c) new sponsors who began sponsoring the program since the pilot began; (d) former sponsors who did not participate in SFSP in FY 2000, 2001 or 2002; and (e) school food service directors of non-participating school districts with 50% or more enrolled students certified to receive free and reduced price school meals.

Estimated Number of Respondents: (a) up to 54 State government employees that administer SFSP; (b) 166 continuing sponsors; (c) up to 150 new sponsors; (d) up to 150 former sponsors; and (e) up to 150 school food service directors of non-participating school districts.

Estimated Number of Responses per Respondent: One response per respondent with the exception of the 14 State Administrators who may be asked follow-up questions about program participation in FY 2003.

Estimate of Burden: Public reporting burden is estimated to range from 15 minutes for school food service directors of non-participating school districts to 120 minutes for State government SFSP administration staff.

Estimated Total Annual Burden on Respondents: 383.5 hours. (a) State government SFSP administration staff (54 × 120 minutes) = 108 hours; (b) continuing sponsors (166 × 30 minutes) = 83 hours; (c) new sponsors (150 × 30 minutes)= 75 hours; (d) former sponsors (150 × 20 minutes + 30 × 60 minutes for focus groups) = 80 hours; and (e) school food service directors of non-participating school districts (150 × 15 minutes) = 37.5 hours.

Dated: December 28, 2001.
Alberta C. Frost,
Acting Administrator, Food and Nutrition Service.

[FR Doc. 02-156 Filed 1-3-02; 8:45 am]

BILLING CODE 3410-30-P